DEPARTMENT OF EDUCATION

Free Application for Federal Student Aid (FAFSA®) Information To Be Verified for the 2018-2019 Award Year

Correction

In notice document 2017-09167, appearing on pages 21204 through 21208, in the issue of Friday, May 5, 2017, make the following corrections:

1. On page 21207, in the second column, on the second line, the entry that reads “I certify that I ___”, should read:

“I certify that I ___ am”.

2. On the same page, in the same column, on the nineteenth line, the entry that reads “I certify that I ___”, should read:

“I certify that I ___ am”.

[FR Doc. C1-2017-09167 Filed 8-21-17; 8:45 am]

BILLING CODE 1301-00-D